ENVIRONMENTAL PROTECTION AGENCY

40 CFR Part 70

[CA 111-OPPb; FRL-7611-1]

Clean Air Act Proposed Full Approval of the Title V Operating Permit Program for Antelope Valley Air Pollution Control District in California

AGENCY: Environmental Protection Agency (EPA).

ACTION: Proposed rule.

SUMMARY: EPA proposes to fully approve the operating permit program submitted by the California Air Resources Board (CARB) on behalf of Antelope Valley Air Pollution Control District (Antelope Valley APCD or the District). The operating permit program was submitted in response to the directive in the 1990 Clean Air Act (CAA) Amendments that permitting authorities develop, and submit to EPA, programs for issuing operating permits to all major stationary sources and to certain other sources within the permitting authority's jurisdiction. EPA granted final interim approval to the District's operating permit program on December 19, 2000 (65 FR 79314). Of the three deficiencies noted by EPA, two were corrected by Antelope Valley APCD in a timely manner. The third deficiency was resolved on September 22, 2003, when the Governor of California signed SB 700, revising State law by removing the agricultural permitting exemption. Though interim approval of the District's operating permit program expired on January 21, 2003, and EPA implemented a federal operating permit program for Antelope Valley APCD, all three deficiencies are now resolved. Therefore, this action proposes full approval of the District's operating permit program.

DATES: Comments on this proposal must be received by February 17, 2004.

ADDRESSES: Written comments on this proposal may be submitted either by mail or electronically. By mail, comments should be addressed to Gerardo Rios, Permits Office Chief, Air Division (AIR-3), EPA Region IX, 75 Hawthorne Street, San Francisco, California, 94105. Electronically, comments should be sent by e-mail to rios.gerardo@epa.gov, or submitted at http://www.regulations.gov.

You can inspect copies of the program submittals, and other supporting documentation relevant to this action, at our Region IX office during normal business hours by appointment.

FOR FURTHER INFORMATION CONTACT: Gerardo Rios, EPA Region IX, (415) 972-3974, rios.gerardo@epa.gov.

SUPPLEMENTARY INFORMATION: This proposal addresses the District's operating permit program. In the Rules and Regulations section of this Federal Register, we are approving the program in a direct final action without prior proposal because we believe the revisions made to the program to resolve the interim approval deficiencies are noncontroversial. If we receive adverse comments, however, we will publish a timely withdrawal of the direct final rule and address the comments in a subsequent action based on this proposed rule. Please note that if we receive adverse comment on an amendment, paragraph, or section of this program and if that provision may be severed from the remainder of the program, we may adopt as final those provisions of the program that are not the subject of an adverse comment.

We do not plan to open a second comment period, so anyone interested in commenting should do so at this time. If we do not receive adverse comments, no further activity is planned. For further information, please see the direct final action.

Dated: January 6, 2004.
Wayne Nastri,
Regional Administrator, Region IX.

40 CFR part 70, chapter I, title 40 of the Code of Federal Regulations is proposed to be amended as follows:

PART 70—[AMENDED]

1. The authority citation for part 70 continues to read as follows:

Authority: 42 U.S.C. 7401, et seq.

2. Appendix A to part 70 is amended by adding paragraph (ii) under California to read as follows:

Appendix A to Part 70—Approval Status of State and Local Operating Permits Programs

* * * * *

California

* * *

(ii) Antelope Valley APCD:

(1) Complete submittal received on January 26, 1999; interim approval effective January 18, 2001; interim approval expires January 21, 2003.

(2) Revisions were submitted on October 22, 2001 and June 17, 2002. Due to unresolved deficiency of state-exempt major stationary agricultural sources, interim approval expired for all major stationary sources, effective January 21, 2003.

(3) Revision submitted on November 7, 2003 containing program for major stationary agricultural sources, effective on January 1, 2004.

* * * * *

[FR Doc. 04-1041 Filed 1-15-04; 8:45 am]

BILLING CODE 6560-50-P